DEPARTMENT OF COMMERCE

National Oceanic and Atmospheric Administration

Proposed Information Collection; Comment Request; Individual Fishing Quotas for Pacific Halibut and Sablefish in the Alaska Fisheries

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 7, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instruments and instructions should be directed to Patsy A. Bearden, (907) 586-7008 or patsy.bearden@noaa.gov.

SUPPLEMENTARY INFORMATION:

I. Abstract

National Marine Fisheries Service, Alaska Region (NMFS) seeks to renew a collection of information for the continued management of the Individual Fishing Quota (IFQ) Program for fixed-gear Pacific halibut and sablefish fisheries off Alaska as well as the Western Alaska Community Development Quota Program (CDQ) halibut fishery. The IFQ program allocates annual total catch limits for the halibut and sablefish fisheries among individual fishermen. The CDQ halibut program allocates annual total catch limits for the halibut fishery among individual CDQ fishermen. Fishermen are assigned Quota Shares (QS) for the fisheries, and then annually receive an IFQ and/or CDQ. The applications and reporting are required to manage and track the program.

II. Method of Collection

Paper applications and reports, electronic reports, and telephone calls are required from participants, and methods of submittal include Internet and fax transmission of paper forms.

III. Data

OMB Number: 0648-0272.

Form Number: None.

Type of Review: Regular submission.

Affected Public: Business or other for-profit organizations.

Estimated Number of Respondents: 2,877.

Estimated Time per Response: 2 hours for Eligibility to Receive QS/IFQ Application; 30 minutes for IFQ/CDQ Hired Master Permit Application; 30 minutes for IFQ/CDQ Registered Buyer Permit Application; 30 minutes for Application for Replacement of Certificates, Permits, or Licenses Application; 200 hours for Application to Become a Community Quota Entity (CQE); 10 hours for Community Petition to Form Governing Body; 2 hours for Transfer of QS/IFQ Application; 2 hours for Transfer of QS/IFQ by Sweep-up Application; 2 hours for Transfer of QS/IFQ to or from a CQE Application; 30 minutes for Approval of Transfer from Governing Body; 2 hours for QS Holder—Identification of Ownership Interest; 40 hours for CQE Annual Report; 4 hours for Letter of Appeal; 30 minutes for QS/IFQ Beneficiary Designation Form; 30 minutes for Annual Updates on the Status of Corporations and Partnerships QS; 6 minutes for IFQ Administrative Waiver; 12 minutes for Prior Notice of IFQ Landing; 15 minutes for Departure Report; 12 minutes for Transshipment Authorization; and 6 minutes for Dockside Sales Receipt.

Estimated Total Annual Burden Hours: 10,578.

Estimated Total Annual Cost to Public: $24,000 for miscellaneous costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 1, 2007.
Gwellnar Banks,
Management Analyst, Office of the Chief Information Officer.

[FR Doc. E7-21949 Filed 11-7-07; 8:45 am]

BILLING CODE 3510-22-P